DEPARTMENT OF LABOR

Bureau of Labor Statistics

Comment Request

ACTION: Notice of solicitation of comments.

SUMMARY: The Department of Labor through the Bureau of Labor Statistics (BLS) is responsible for the development and publication of occupational injury, illness, and fatality data. These data are compiled in the Survey of Occupational Injuries and Illnesses and the Census of Fatal Occupational Injuries. These two programs use the Occupational Injury and Illness Classification System to classify certain cases received. BLS is currently soliciting comments to revise this system.

DATES: Written comments must be submitted to the office listed in the Addresses section of this notice on or before April 1, 2008.

ADDRESSES: Send comments to Janice Windau, Office of Safety, Health, and Working Conditions, Bureau of Labor Statistics, Room 3180, 2 Massachusetts Avenue, NE., Washington, DC 20212 or by e-mail to: OIICS-R@bls.gov.

FOR FURTHER INFORMATION CONTACT: Janice Windau, Office of Safety, Health, and Working Conditions, Bureau of Labor Statistics, telephone number 202-691-6160 or by e-mail at Windau.Janice@bls.gov.

SUPPLEMENTARY INFORMATION:

I. Background

The Department of Labor through the Bureau of Labor Statistics (BLS) is responsible for the development and publication of occupational injury, illness, and fatality data. The Bureau's nonfatal injury and illness statistics are derived from the Survey of Occupational Injuries and Illnesses (SOII). Data for fatal work injuries are compiled in the Census of Fatal Occupational Injuries (CFOI).

Beginning with data for 1992, cases with days away from work reported in the SOII and fatal injuries reported in CFOI were classified according to five code structures that describe the injury or illness and how it occurred: Nature of injury or illness, part of body affected, source of injury or illness, event or exposure, secondary source of injury or illness. These structures comprise the Occupational Injury and Illness Classification System.

The Occupational Injury and Illness Classification System (OIICS) was developed by the Bureau of Labor Statistics with input from data users and States participating in the BLS Occupational Safety and Health (OSH) Federal/State cooperative programs. It was ultimately based on the American National Standards Institute (ANSI) Z16.2-1962, Method of Recording Basic Facts Relating to the Nature and Occurrence of Work Injuries, revised 1969. In addition, certain portions are based on the International Classification of Disease, 9th Revision, Clinical Modification (ICD-9 CM), which is widely used in the medical community.

The Occupational Injury and Illness Classification System contains the following code structures used to describe the injury and illness and how it occurred:

• Nature of Injury or Illness, which describes the physical characteristics of the injury or illness.

• Part of Body Affected, which identifies the part of the body directly affected by the nature.

• Source of Injury or Illness, which identifies the object or substance that directly inflicted the injury or illness.

• Event or Exposure, which describes the manner in which the injury or illness was inflicted by the source.

• Secondary Source, which identifies other objects or substances, if any, that contributed to the event or exposure. The same code list is used for both source and secondary source.

The classification structures are hierarchical with four levels of detail to facilitate the aggregation of information and to accommodate both variations in detail available on reporting forms and the needs of data users. For example, one user may wish to look at data for injuries involving all trucks (Source code 825); whereas, another user may be interested only in cases involving tractor trailer trucks (Source code 8254).

Each classification structure is comprised of the following:

• Rules of selection, which define the characteristic and assist in assigning a code when more than one code category might apply to the case.

• Code descriptions, which provide more detail about the individual code categories and often give examples of types of cases that are included or excluded from the category.

• Complete code list, which includes the codes and associated titles by themselves without the descriptions.

• Alphabetical indices.

The original OIICS was released in December 1992 and was approved for use as the American National Standard for Information Management for Occupational Safety and Health in 1995 (ANSI Z16.2-1995). In addition to the BLS occupational safety and health statistics program, the OIICS is used by several State workers' compensation agencies, the National Institute for Occupational Safety and Health, and other organizations. The Bureau of Labor Statistics' current coding is limited to cases that result in death or days away from work; other users of the OIICS may code cases which involve medical treatment only.

In September 2007, the OIICS was updated to incorporate various interpretations and corrections. That phase of the revision process was limited in order to minimize computer systems changes and breaks in the BLS data series. Although a few code titles were changed to reflect the category's contents, no new codes were added. The current version of the OIICS along with a list of changes recently incorporated is available on the BLS Web site at http://www.bls.gov/iif/oshoiics.htm.

II. Current Action

A more extensive revision is being planned. This revision is intended to update the classification system to:

• Capture workplace hazards resulting from the many technological changes that have taken place in the work environment since the OIICS was initially released.

• Include new or emerging conditions that could potentially result from an incident or exposure in the workplace.

• Provide for data aggregations not available with the current OIICS.

• Resolve remaining coding issues.

In addition, BLS will review the International Statistical Classification of Diseases and Related Health Problems—Tenth Revision (ICD-10) to identify work-related conditions and hazards not captured in the current OIICS.

III. Desired Focus of Comments

Comments and recommendations are requested from the public on the following aspects of the OIICS:

• The basic coding system.

• The format of the manual.

• The definitions of the five characteristics (Nature of Injury or Illness, Part of Body Affected, Source of Injury or Illness, Secondary Source, Event or Exposure).

• Potential new characteristics.

• The rules of selection.

• The code categories, including any recommendations for additional categories and for merging or deleting existing categories.

• The descriptions of the code categories, including the lists of inclusions and exclusions.

• Alphabetical indices.

Signed at Washington, DC, this 21st day of February 2008.
Kimberley Hill,
Acting Chief, Division of Management Systems, Bureau of Labor Statistics.

[FR Doc. E8-3662 Filed 2-26-08; 8:45 am]

BILLING CODE 4510-24-P